COMMISSION ON CIVIL RIGHTS

Sunshine Act Meeting

AGENCY: Commission on Civil Rights.

DATE AND TIME: Friday, December 13, 2002, 8:30 a.m.

PLACE: New York Marriott Brooklyn Hotel, 333 Adams Street, New York, NY 11201.

STATUS:

Agenda

I. Approval of Agenda

II. Approval of Minutes of November 15, 2002 Meeting

III. Announcements

IV. Staff Director's Report

V. State Advisory Committee Appointments for Indiana and Massachusetts

VI. Presentations from individuals and organizational representatives on Civil Rights Issues Facing Immigrants in New York City

VII. Presentations from New York State Advisory Committee Members

VIII. Future Agenda Items

FOR FURTHER INFORMATION CONTACT: Les Jin, Press and Communications (202) 376-7700.

Debra A. Carr,
Deputy General Counsel.

[FR Doc. 02-31146 Filed 12-5-02; 12:07 pm]

BILLING CODE 6335-01-M